DEPARTMENT OF COMMERCE

International Trade Administration

[A-583-849]

Steel Wire Garment Hangers From Taiwan: Rescission of Antidumping Duty Administrative Review

AGENCY: Enforcement and Compliance, International Trade Administration, Department of Commerce.

DATES: Effective Date: April 6, 2016.

SUMMARY: The Department of Commerce (the “Department”) is rescinding the administrative review of the antidumping duty order on steel wire garment hangers from Taiwan for the period of review (“POR”), December 1, 2014, through November 30, 2015.

FOR FURTHER INFORMATION CONTACT: Kenneth Hawkins, AD/CVD Operations, Office V, Enforcement and Compliance, International Trade Administration, U.S. Department of Commerce, 14th Street and Constitution Avenue NW., Washington, DC 20230; telephone 202.482.6491.

SUPPLEMENTARY INFORMATION:

Background

On February 9, 2016, based on a timely request for review by Petitioners,¹ the Department published in the Federal Register a notice of initiation of an administrative review of the antidumping duty order on steel wire garment hangers for six companies, covering the period December 1, 2014, through November 30, 2015.² On March 22, 2016, Petitioners withdrew their request for an administrative review of these companies.³

¹ M&B Metal Products Company, Inc., Innovative Fabrication LLC/Indy Hanger and US Hanger Company, LLC (collectively “Petitioners”).

² See Initiation of Antidumping and Countervailing Duty Administrative Reviews, 81 FR 6832 (February 9, 2016) (“Initiation”).

³ See letter from Petitioners, “Re: Third Administrative Review of Steel Wire Garment Hangers from Taiwan—Petitioners' Withdrawal of Review Request,” dated March 22, 2016.

Rescission of Review

Pursuant to 19 CFR 351.213(d)(1), the Department will rescind an administrative review if the party that requested the review withdraws its request within 90 days of the publication of the notice of initiation of the requested review. Petitioners withdrew their request within the 90-day deadline. No other party requested an administrative review of the antidumping duty order. As a result, we are rescinding the administrative review of steel wire garment hangers from Taiwan for the POR.

Assessment

The Department will instruct U.S. Customs and Border Protection (“CBP”) to assess antidumping duties on all appropriate entries. Because the Department is rescinding this administrative review in its entirety, the entries to which this administrative review pertained shall be assessed antidumping duties at rates equal to the cash deposit of estimated antidumping duties required at the time of entry, or withdrawal from warehouse, for consumption, in accordance with 19 CFR 351.212(c)(1)(i). The Department intends to issue appropriate assessment instructions to CBP 15 days after the publication of this notice.

Notifications

This notice serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a final reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: March 31, 2016.
Christian Marsh,
Deputy Assistant Secretary for Antidumping and Countervailing Duty Operations.

[FR Doc. 2016-07903 Filed 4-5-16; 8:45 am]

BILLING CODE 3510-DS-P